DEPARTMENT OF THE INTERIOR

Bureau of Land Management

[LLCON06000 L1610000.DP0000]

Notice of Intent To Solicit Nominations for the Dominguez-Escalante National Conservation Area Advisory Council

AGENCY: Bureau of Land Management, Interior.

ACTION: Notice of Intent.

SUMMARY: The Secretary of the Interior (Secretary) was directed by the Omnibus Public Lands Management Act of 2009 to establish the Dominguez-Escalante National Conservation Area (D-E NCA) Advisory Council (Council). The 10-member Council was formed in December 2010 to provide recommendations to the Secretary through the Bureau of Land Management (BLM) during the development of a resource management plan (RMP) for the D-E NCA. Since this council was formed, one council member representing Delta County and one council member representing natural values have expressed interest in resigning from the council due to time conflicts. As a result, the Secretary is soliciting applications to replace the current occupants of these two seats.

DATES: Submit nomination packages on or before September 6, 2011.

ADDRESSES: Send completed Council nominations to D-E NCA Interim Manager, Grand Junction Field Office, 2815 H Road, Grand Junction, Colorado 81506. Nomination forms may be obtained at the Grand Junction Field Office at the above address or at the BLM Uncompahgre Field Office, 2465 S. Townsend Ave., Montrose, Colorado 81401.

FOR FURTHER INFORMATION CONTACT: Katie A. Stevens, D-E NCA Interim Manager, 970-244-3049, kasteven@blm.gov. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The D-E NCA and Dominguez Canyon Wilderness Area, located within the D-E NCA, were established by the Omnibus Public Land Management Act of 2009, Public Law 111-11 (Act). The D-E NCA is comprised of approximately 209,610 acres of public land, including approximately 66,280 acres designated as Dominguez Canyon Wilderness Area located in Delta, Montrose, and Mesa counties, Colorado. The purpose of the D-E NCA is to conserve and protect the unique and important resources and values of the land for the benefit and enjoyment of present and future generations. These resources and values include the geological, cultural, archaeological, paleontological, natural, scientific, recreational, wilderness, wildlife, riparian, historical, educational, and scenic resources of the public lands, and the water resources of area streams based on seasonally available flows that are necessary to support aquatic, riparian, and terrestrial species and communities. According to the Act, the 10-member council is to include, to the extent practicable:

1. One member appointed after considering the recommendations of the Mesa County Commission;

2. One member appointed after considering the recommendations of the Montrose County Commission;

3. One member appointed after considering the recommendations of the Delta County Commission;

4. One member appointed after considering the recommendations of the permittees holding grazing allotments within the D-E NCA or the wilderness; and

5. Five members who reside in, or within reasonable proximity to Mesa, Delta, or Montrose counties, Colorado, with backgrounds that reflect:

a. The purposes for which the D-E NCA or wilderness was established; and

b. The interests of the stakeholders that are affected by the planning and management of the D-E NCA and wilderness.

Any individual or organization may nominate one or more persons to serve on the Council. Individuals may nominate themselves for Council membership. The Obama Administration prohibits individuals who are currently federally registered lobbyists to serve on all Federal Advisory Committee Act (FACA) and non-FACA boards, committees, or councils. Nomination forms may be obtained from the BLM Grand Junction or Uncompahgre Field Offices, or may be downloaded from the following Web site: http://www.blm.gov/co/st/en/nca/denca/denca_rmp/DENCA_Resource_Advisory_Council.html.

Nomination packages must include a completed nomination form, letters of reference from the represented interests or organizations, as well as any other information relevant to the nominee's qualifications.

The Grand Junction and Uncompahgre Field Offices will review the nomination packages in coordination with the affected counties and the Governor of Colorado before forwarding recommendations to the Secretary, who will make the appointments. The Council shall be subject to the FACA, 5 U.S.C. App. 2; and the Federal Land Management Policy Act of 1976, 43 U.S.C. 1701 et seq.

Helen M. Hankins,
State Director.

[FR Doc. 2011-19778 Filed 8-3-11; 8:45 am]

BILLING CODE 4310-JB-P